DEPARTMENT OF TRANSPORTATION

Federal Highway Administration

Environmental Impact Statement: State Route (S.R.) 30, Cache County, Utah

AGENCY: Federal Highway Administration (FHWA), DOT.

ACTION: Notice of Intent to Prepare an Environmental Impact Statement.

SUMMARY: FHWA is issuing this notice to advise the public that an Environmental Impact Statement (EIS) will be prepared for proposed transportation improvements in Cache County, Utah.

FOR FURTHER INFORMATION CONTACT: Paul Ziman, Area Enginer, Federal Highway Administration, 2520 West 4700 South, Suite 9A, Salt Lake City, UT 84118, telephone (801) 955-3525, Paul.Ziman@dot.gov, The Utah Department of Transportation (UDOT) contact is Rod Terry, Project Manager, Utah Department of Transportation, Region One Office, 166 West Southwell Street, Ogden, UT 84404-4194, telephone (801) 620-1686, email rodterry@utah.gov.

SUPPLEMENTARY INFORMATION: FHWA, in cooperation with UDOT, will prepare an EIS for a proposal to address safety and current and projected traffic demand on S.R. 30 in the city of Logan and in Cache County, Utah. The proposed project area extends from S.R. 23 to S.R. 252 (1000 West in Logan), a distance of about 6.4 miles. Safety and transportation improvements are needed to address current identified design deficiencies and current and projected 2040 travel demand along the existing two-lane S.R. 30 highway.

Prior to this Notice of Intent, UDOT prepared the State Route 30 Corridor Study, I-15 to 1000 West (June 2016). The corridor study identified current and future safety and capacity needs that will be incorporated into the EIS process. Throughout the corridor study process, UDOT relayed to stakeholders that identified needs might require further analysis in a National Environmental Policy Act (NEPA) document and that the S.R. 30 Corridor Study Planning Report will be adopted in such NEPA documents. The corridor study also helped UDOT identify the logical termini for highway improvements evaluated in the EIS. The corridor study can be reviewed at udot.utah.gov/SR30study.

FHWA will consider a reasonable range of alternatives that meet the purpose of and need for the project and are based on agency and public input. These alternatives include: (1) Taking no action (no-build); (2) using alternate travel modes; (3) using access control and transportation demand management to improve the efficiency of the existing road network; (4) upgrading and adding lanes to the existing road network, including S.R. 30; (5) combinations of any of the above; and (6) other feasible alternatives identified during the scoping process.

A Coordination Plan is being prepared to define the agency and public participation procedure for the environmental review process. The plan will outline (1) how agencies and the public will provide input during the scoping process; (2) the development of the purpose and need; and (3) alternatives development.

Letters describing the proposed action and soliciting comments will be sent to appropriate Federal, state, and local agencies as well as to Native American tribes and to private organizations and citizens who have previously expressed, or who are known to have, an interest in this proposal. These letters will invite agencies, tribes, and the public to participate in scoping meetings at locations and dates to be determined.

Public meetings will be held to allow the public, as well as Federal, state, and local agencies, and tribes, to provide comments on the purpose of and need for the project, potential alternatives, and social, economic, and environmental issues of concern.

In addition, a public hearing will be held following the release of the draft EIS. Public notice advertisements and direct mailings will notify interested parties of the time and place of the public meetings and the public hearing.

To ensure that the full range of issues related to this proposed action is addressed and all significant issues are identified, comments and suggestions are invited from all interested parties. Comments or questions concerning this proposed action and the EIS should be directed to FHWA or UDOT at the addresses provided above by October 21, 2016.

UDOT is currently seeking NEPA Assignment from FHWA and expects the process to be finalized before the end of 2016. NEPA Assignment allows UDOT to assume FHWA's responsibilities under NEPA. This also applies to all or part of FHWA's responsibilities for environmental reviews, consultation, and other actions required under other Federal environmental laws such as the Endangered Species Act and the Clean Water Act. Once FHWA approves UDOT's NEPA Assignment application, UDOT will take the lead in completing the S.R. 30 EIS.

(Catalog of Federal and Domestic Assistance Program Number 20.205, Highway Research, Planning and Construction. The regulations implementing Executive Order 12372 regarding intergovernmental consultation on Federal programs and activities apply to this program.)

Dated: August 15, 2016.
Ivan Marrero,
Division Administrator, Salt Lake City, Utah.

[FR Doc. 2016-19827 Filed 8-22-16; 8:45 am]

BILLING CODE 4910-22-P